DEPARTMENT OF TRANSPORTATION

Federal Aviation Administration

14 CFR Part 39

[Docket No. FAA-2013-0525; Directorate Identifier 2011-SW-063-AD]

RIN 2120-AA64

Airworthiness Directives; Bell Helicopter Textron Canada Limited (Bell) Helicopters

AGENCY: Federal Aviation Administration (FAA), DOT.

ACTION: Notice of proposed rulemaking (NPRM).

SUMMARY: We propose to adopt a new airworthiness directive (AD) for Bell Model 206L, L-1, L-3, and L-4 helicopters. This proposed AD would require measuring each main rotor (M/R) blade spar space to determine whether it is oversized and reidentifying the blade and reducing the life limit of the blade if the spar spacer is oversized. This proposed AD is prompted by the manufacture of certain main rotor blades with an oversized spar spacer and the determination to reduce the life limits of those main rotor blades. The proposed actions are intended to prevent failure of a M/R blade and subsequent loss of control of the helicopter.

DATES: We must receive comments on this proposed AD by August 19, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

FOR FURTHER INFORMATION CONTACT: Sharon Miles, Aerospace Engineer, FAA, Rotorcraft Directorate, Regulations and Policy Group, 2601 Meacham Blvd., Fort Worth, Texas 76137, telephone (817) 222-5110, email sharon.y.miles@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada Civil Aviation (TCAA), which is the aviation authority for Canada, has issued AD No. CF-2011-43, dated November 10, 2011, to correct an unsafe condition for Bell Model 206L, L-1, L-3, and L-4 helicopters. TCAA advises that, during manufacturing, some M/R blades were inadvertently fitted with oversized spar spacers, which reduces the life of the blades from 3600 to 2300 hours “air time.” As a result, TCCA has mandated procedures to reidentify blades that have oversized spar spacers with new part numbers and reduce the life limitation for such blades.

FAA's Determination

These helicopters have been approved by TCAA and are approved for operation in the United States. Pursuant to our bilateral agreement with Canada, TCAA, its technical representative, has notified us of the unsafe condition described in its AD. We are proposing this AD because we evaluated all known relevant information and determined that an unsafe condition is likely to exist or develop on other helicopters of the same type design.

Related Service Information

Bell issued Alert Service Bulletin No. 206L-09-163, dated November 13, 2009, which specifies inspecting certain M/R blades for oversized spar spacers and reidentifying and reducing the life limit of any blade with an oversized spar spacer from 3600 to 2300 flight hours.

Proposed AD Requirements

This proposed AD would require, within a specified time, measuring the M/R blade spar spacer. If a blade is fitted with an oversized spacer, this AD would require reidentifying the blade, reducing the life limit for the blade from 3,600 hours time-in-service (TIS) to 2,300 hours TIS, and making an entry on the component history card or equivalent record.

Differences between This Proposed AD and the EASA AD

TCAA requires compliance time within 100 hours air time or 30 days; this proposed AD would require compliance within 100 hours TIS.

Costs of Compliance

We estimate that this proposed AD would affect 688 helicopters of U.S. Registry.

We estimate that operators may incur the following costs in order to comply with this AD. It would take about 2.5 work hours to measure the spar spacer and reidentify the blade at $85 per work hour for a total of $213 per helicopter.

According to Bell's service information some of the costs of this proposed AD may be covered under warranty, thereby reducing the cost impact on affected individuals. We do not control warranty coverage by Bell. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron Canada Limited: Docket No. FAA-2013-0525; Directorate Identifier 2011-SW-063-AD.

(a) Applicability

This AD applies to Model 206L, L-1, L-3, and L-4 helicopters with a main rotor (M/R) blade, part number (P/N) 206-015-001-115, -117, -119, or -121, with a serial number (S/N) listed in Table 1 or 2 of Bell Helicopter Alert Service Bulletin No. 206L-09-163, dated November 13, 2009 (ASB), certificated in any category.

(b) Unsafe Condition

This AD defines the unsafe condition as the manufacture of a M/R blade with an oversized spar spacer. This condition could result in failure of a M/R blade and subsequent loss of control of the helicopter.

(c) Compliance

You are responsible for performing each action required by this AD within the specified compliance time unless it has already been accomplished prior to that time.

(d) Actions Required

Within 100 hours time-in-service (TIS):

(1) For each M/R blade with a S/N listed in Table 1 of the ASB, measure the M/R blade spar spacer by following the Accomplishment Instructions, Part II A), paragraphs 1 through 3, of the ASB. If the spar spacer measures more than 1.018 inches (25.86 millimeters), reidentify the blade by following Part II A, paragraph 5.a. and Table 3, of the ASB.

(2) For each M/R blade with a S/N listed in Table 2 of the ASB, measure the M/R blade spar spacer by following the Accomplishment Instructions, Part II B, paragraphs 1 through 3, of the ASB. If the spar spacer measures more than 1.018 inches (25.86 millimeters), reidentify the blade by following Part II B, paragraph 5 and Table 4, of the ASB.

(3) For each reidentified blade, reduce the life limit from 3,600 hours TIS to 2,300 hours TIS, and make an entry on the component history card or equivalent record.

(4) Before further flight, remove any blade that exceeds the new retirement life of 2,300 hours TIS.

(e) Alternative Methods of Compliance (AMOCs)

(1) The Manager, Safety Management Group, FAA, may approve AMOCs for this AD. Send your proposal to: Sharon Miles, Aerospace Engineer, FAA, Rotorcraft Directorate, Regulations and Policy Group, 2601 Meacham Blvd., Fort Worth, Texas 76137, telephone (817) 222-5110, email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(f) Additional Information

The subject of this AD is addressed in Transport Canada Civil Aviation AD CF-2011-41, dated November 10, 2011.

(g) Subject

Joint Aircraft Service Component (JASC) Code: 6210 Main Rotor Blades.

Issued in Fort Worth, Texas, on June 13, 2013.
Kim Smith,
Directorate Manager, Rotorcraft Directorate, Aircraft Certification Service.

[FR Doc. 2013-14704 Filed 6-19-13; 8:45 am]

BILLING CODE 4910-13-P